DEPARTMENT OF ENERGY

Federal Energy Regulatory Commission

[Project No. 2611-093]

Hydro Kennebec LLC; Notice of Intent To Prepare an Environmental Assessment

On February 14, 2025, Hydro Kennebec LLC (licensee) filed an application for a temporary variance at the Hydro-Kennebec Hydroelectric Project No. 2611. The project is located on the Kennebec River in Kennebec and Somerset counties, Maine.

The licensee proposes to maintain its reservoir elevation at 78 feet, 3 feet lower than the normal elevation of 81 feet, by temporarily installing 3-foot-high flashboards rather than the normal 6-foot-high flashboards. The licensee states lowering the reservoir by 3 feet would allow for repairs to a damaged spillway gate while also keeping the reservoir high enough to use its downstream fish passage facility and to possibly submerge rapids near the town of Fairfield to improve boater safety. The applicant intends to install the temporary flashboards as soon as personnel can safely access the spillway but no later than shortly after spring runoff subsides, and to replace them with the normal, 6-foot-high flashboards once the gate is repaired, but no later than December 31, 2025.

On March 30, 2025, the Commission issued a public notice for the proposed amendment. The public comment period closed on April 28, 2025 and no filings were made in response to the public notice.

This notice identifies Commission staff's intent to prepare an environmental assessment (EA) for the project.¹ The planned schedule for the completion of the EA is May 30, 2025. Revisions to the schedule may be made as appropriate.

¹ For tracking purposes under the National Environmental Policy Act, the unique identification number for documents relating to this environmental review is EAXX-019-20-000-1746012887.

The Commission's Office of Public Participation (OPP) supports meaningful public engagement and participation in Commission proceedings. OPP can help members of the public, including landowners, Tribal members, and others to access publicly available information and navigate Commission processes. For public inquiries and assistance with making filings such as interventions, comments, or requests for rehearing, the public is encouraged to contact OPP at (202) 502-6595 or OPP@ferc.gov.

Any questions regarding this notice may be directed to Steven Sachs at 202-502-8666 or Steven.Sachs@ferc.gov.

Dated: May 7, 2025.
Carlos D. Clay,
Deputy Secretary.

[FR Doc. 2025-08363 Filed 5-12-25; 8:45 am]

BILLING CODE 6717-01-P